DEPARTMENT OF COMMERCE

National Oceanic and Atmospheric Administration

RIN 0648-XV058

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Marianas Regional Ecosystem Advisory Committee (REAC) and Marianas Advisory Panel (AP) to discuss fishery issues and develop recommendations for future ecosystem management of the archipelagic and pelagic fisheries and protected species.

DATES: The Commonwealth of the Northern Mariana Islands (CNMI) REAC meeting will be held between 9 a.m. and 3 p.m. on September 25, 2019. The CNMI AP meeting will be held between 5 p.m. and 8 p.m. on September 25, 2019. The Guam REAC meeting will be held between 9 a.m. and 3 p.m. on September 27, 2019. The Guam AP meeting will be held between 5 p.m. and 8 p.m. on September 27, 2019. For specific times and agendas, see SUPPLEMENTARY INFORMATION.

ADDRESSES: The CNMI REAC and AP meetings will be held at the Chamolinian Room of Hyatt Regency Hotel, Royal Palm Avenue, Micro Beach Rd, Garapan, Saipan 96950, Northern Mariana Islands; telephone: (670) 234-1234. The Guam REAC and AP meetings will be held at the Gallery Room of the Hilton Guam Resort and Spa, 202 Hilton Road, Tumon Bay, Guam 96913; telephone: (671) 646-1835.

FOR FURTHER INFORMATION CONTACT: Kitty M. Simonds, Executive Director, Western Pacific Regional Fishery Management Council; telephone: (808) 522-8220; fax: (808) 522-8226.

SUPPLEMENTARY INFORMATION: Public comment periods will be provided throughout the agendas. The order in which agenda items are addressed may change. The meetings will run as late as necessary to complete scheduled business.

Agenda for the CNMI REAC Meeting

Wednesday, September 25, 2019, 9 a.m. to 3 p.m.

1. Welcome and Introductions

2. Review of 2018 REAC Meeting

3. Overview of the 2019 REAC Meeting

4. Information sourcing for local fishery ecosystem impacts of climate change

5. Sourcing for local data sources that can be used to support research

6. Setting local research priorities needed to address impacts of climate change on the local fishery ecosystems

7. Discussion on Coral Reef Grant Projects

8. Social, economic, and ecological characterization of shark depredation

9. Public Comment

10. Other Business

11. Discussion and Recommendations

Agenda for the CNMI AP Meeting

Wednesday, September 25, 2019, 5 p.m. to 8 p.m.

1. Welcome and Introductions

2. Review of the last AP meeting and recommendations

3. 180th Council Meeting Action Items and Issues

a. Territorial Bottomfish Stock Assessment

b. Pacific Insular Fisheries Monitoring and Assessment Planning Summit

4. CNMI Reports

a. Community Report

b. Education Report

c. Island Report

d. Legislative Report

e. 2018 Mariana Archipelago Fisheries Economics Survey

5. Island Fishery Issues & Activities

a. Issues

b. Activities

6. Public Comments

7. Discussion and Recommendations

8. Other Business

Agenda for the Guam REAC Meeting

Friday, September 27, 2019, 9 a.m. to 3 p.m.

1. Welcome and Introductions

2. Overview of the REAC 2019 meeting

3. Information sourcing for local fishery ecosystem impacts of climate change

4. Sourcing for local data sources that can be used to support research

5. Setting local research priorities needed to address impacts of climate change on the local fishery ecosystems (include pelagics)

6. Discussion on Coral Reef Grant Projects

7. Social, economic, and ecological characterization of shark depredation

8. Public Comment

9. Other Business

10. Discussion and Recommendations

Agenda for the Guam AP Meeting

Friday, September 27, 2019, 6 p.m. to 8 p.m.

1. Welcome and Introductions

2. Review of the last AP meeting and recommendations

3. 180th Council Meeting Action Items and Issues

a. Territorial Bottomfish Stock Assessment

b. Pacific Insular Fisheries Monitoring and Assessment Planning Summit

4. Guam Reports

a. Community Report

b. Education Report

c. Island Report

d. Legislative Report

e. 2018 Mariana Archipelago Fisheries Economics Survey

5. Island Fishery Issues & Activities

a. Issues

b. Activities

6. Public Comments

7. Discussion and Recommendations

8. Other Business

Special Accommodations

These meetings are physically accessible to people with disabilities. Requests for sign language interpretation or other auxiliary aids should be directed to Kitty M. Simonds, telephone: (808) 522-8220; fax: (808) 522-8226, at least 5 days prior to the meeting date.

Authority: 16 U.S.C. 1801 et seq.

Dated: September 5, 2019.
Tracey L. Thompson,
Acting Deputy Director, Office of Sustainable Fisheries, National Marine Fisheries Service.

[FR Doc. 2019-19494 Filed 9-9-19; 8:45 am]

BILLING CODE 3510-22-P